DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of two newly-designated entities whose property and interests in property are blocked pursuant to Executive Order 12978 of October 21, 1995, “Blocking Assets and Prohibiting Transactions with Significant Narcotics Traffickers.” In addition, OFAC is publishing changes to the identifying information associated with three persons previously designated pursuant to Executive Order 12978.

DATES: The designation by the Secretary of the Treasury of the two entities identified in this notice pursuant to Executive Order 12978 is effective on March 7, 2007. In addition, the changes to the listings of persons previously designated pursuant to Executive Order 12978 are also effective on March 7, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706) (“IEEPA”), issued Executive Order 12978 (60 Fed. Reg. 54579, October 24, 1995) (the “Order”). In the Order, the President declared a national emergency to deal with the threat posed by significant foreign narcotics traffickers centered in Colombia and the harm that they cause in the United States and abroad. Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On March 7, 2007, the Secretary of the Treasury, in consultation with the Attorney General and Secretary of State, as well as the Secretary of Homeland Security, designated two entities whose property and interests in property are blocked pursuant to the Order.

The list of additional designees is as follows:

1. C.W. SALMAN PARTNERS, 1401 Brickell Avenue, Miami, FL 33131, United States; U.S. FEIN 65-0111089 (United States); (ENTITY) [SDNT]

2. SALMAN CORAL WAY PARTNERS, 2731 Coral Way, Miami, FL 33145, United States; U.S. FEIN 59-2276524 (United States); (ENTITY) [SDNT]

In addition, OFAC has made changes to the identifying information associated with the following three persons previously designated pursuant to the Order:

1. SAIEH JASSIR, Abdala, c/o ALM INVESTMENT FLORIDA, INC., Miami, FL, United States; c/o CONFECCIONES LORD S.A., Barranquilla, Atlantico, Colombia; c/o CONSTRUCTORA ALTAVISTA INTERNACIONAL S.A., Barranquilla, Colombia; c/o ELIZABETH OVERSEAS INC., Panama City, Panama; c/o GRANADA ASSOCIATES, INC., Miami, FL, United States; c/o JAMCE INVESTMENTS LTD, Grand Cayman, Cayman Islands; c/o KAREN OVERSEAS FLORIDA, INC., Miami, FL, United States; c/o KAREN OVERSEAS, INC., Panama City, Panama; c/o KATTUS CORPORATION, Barbados; c/o MLA INVESTMENTS INC., Virgin Islands, British; c/o URBANIZADORA ALTAVISTA INTERNACIONAL S.A., Barranquilla, Colombia; c/o VILLAROSA INVESTMENTS FLORIDA, INC., Miami, FL, United States; c/o VILLAROSA INVESTMENTS CORPORATION, Panama City, Panama; Carrera 56 No. 19-40 Apt. 11, Barranquilla, Colombia; 19667 Turnberry Way A-G, North Miami Beach, FL, United States; 780 NW. Le Jeune Road, Suite 516, Miami, FL 33126, United States; 780 NW. 42nd Avenue, Suite 516, Miami, FL 33126, United States; DOB 19 Dec 1919; Citizen Colombia; Cedula No. 812202 (Colombia); Passport AF547128 (Colombia); (INDIVIDUAL) [SDNT]

2. SAIEH MUVDI, Moises Abdal, c/o ALMACAES S.A., Bogota, Colombia; c/o ALM INVESTMENT FLORIDA, INC., Miami, FL, United States; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o JAMCE INVESTMENTS LTD, Grand Cayman, Cayman Islands; c/o KAREN OVERSEAS, INC., Panama City, Panama; c/o KAREN OVERSEAS FLORIDA, INC., Miami, FL, United States; c/o KATTUS CORPORATION, Barbados; c/o KATTUS II CORPORATION, Panama City, Panama; c/o MLA INVESTMENTS, INC., Virgin Islands, British; c/o MOISES SAIEH Y CIA. S.C.A., Barranquilla, Colombia; c/o RAMAL S.A., Bogota, Colombia; c/o RIXFORD INVESTMENT CORPORATION, Panama City, Panama; c/o SUNSET & 97TH HOLDINGS, LLC., Miami, FL, United States; c/o URBANIZADORA ALTAVISTA INTERNACIONAL S.A., Barranquilla, Colombia; c/o VILLAROSA INVESTMENTS CORPORATION, Panama City, Panama; c/o VILLAROSA INVESTMENTS FLORIDA, INC., Miami, FL, United States; Carrera 56 # 79-40, Apt 7, Barranquilla, Colombia; 19667 NE. 36 Court A 12-G, North Miami Beach, FL, United States; 780 NW. Le Jeune Rd, Ste 516, Miami, FL 33126, United States; 780 NW. 42nd Avenue, Miami, FL 33126, United States; 1405 SW. 107th Ave., Ste 301B, Miami, FL, United States; 19667 Turnberry Way, Unit 12G, Miami, FL 33180, United States; 20301 W. Country Club Drive, Apt 824, Aventura, FL 33180, United States; DOB 06 Jun 1945; POB Pamplona, Norte de Santander; Citizen Colombia; Cedula No. 7427466 (Colombia); (INDIVIDUAL) [SDNT]

3. SAIEH JAMIS, Carlos Ernesto, c/o ALMACAES S.A., Bogota, Colombia; c/o ALM INVESTMENT FLORIDA, INC., Miami, FL, United States; c/o BLACKMORE INVESTMENTS A.V.V., Oranjestad, Aruba; c/o BRUNELLO LTD., Grand Cayman, Cayman Islands; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o FINANZAS DEL NORTE LUIS SAIEH Y CIA. S.C.A., Barranquilla, Colombia; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MARC LLC, Miami, FL, United States; c/o MLA INVESTMENTS, INC., Virgin Islands, British; c/o MOISES SAIEH Y CIA. S.C.A., Barranquilla, Colombia; c/o RAMAL S.A., Bogota, Colombia; c/o RIXFORD INVESTMENT CORPORATION, Panama City, Panama; c/o URBANIZADORA ALTAVISTA INTERNACIONAL S.A., Barranquilla, Colombia; c/o VILLAROSA INVESTMENTS FLORIDA, INC., Miami, FL, United States; 780 NW. Le Jeune Rd, Ste 516, Miami, FL 33126, United States; 780 NW. 42nd Avenue, Miami, FL 33126, United States; Carrera 56 # 79-102 P-10, Barranquilla, Colombia; Nine Island Avenue, Unit 1411, Miami Beach, FL, United States; DOB 24 Feb 1964; POB Barranquilla, Colombia; Citizen Colombia; Nationality Colombia; Cedula No. 8739066 (Colombia); Passport AH006864 (Colombia) (INDIVIDUAL) [SDNT]

The listings now appear as follows:

1. SAIEH JASSIR, Abdala, c/o ALM INVESTMENT FLORIDA, INC., Miami, FL, United States; c/o CONFECCIONES LORD S.A., Barranquilla, Atlantico, Colombia; c/o CONSTRUCTORA ALTAVISTA INTERNACIONAL S.A., Barranquilla, Colombia; c/o C.W. SALMAN PARTNERS, Miami, FL, United States; c/o ELIZABETH OVERSEAS INC., Panama City, Panama; c/o GRANADA ASSOCIATES, INC., Miami, FL, United States; c/o JAMCE INVESTMENTS LTD, Grand Cayman, Cayman Islands; c/o KAREN OVERSEAS FLORIDA, INC., Miami, FL, United States; c/o KAREN OVERSEAS, INC., Panama City, Panama; c/o KATTUS CORPORATION, Barbados; c/o MLA INVESTMENTS INC., Virgin Islands, British; c/o SALMAN CORAL WAY PARTNERS, Miami, FL, United States; c/o URBANIZADORA ALTAVISTA INTERNACIONAL S.A., Barranquilla, Colombia; c/o VILLAROSA INVESTMENTS FLORIDA, INC., Miami, FL, United States; c/o VILLAROSA INVESTMENTS CORPORATION, Panama City, Panama; Carrera 56 No.19-40 Apt. 11, Barranquilla, Colombia; 19667 Turnberry Way A-G, North Miami Beach, FL, United States; 780 NW Le Jeune Road, Suite 516, Miami, FL 33126, United States; 780 NW 42nd Avenue, Suite 516, Miami, FL 33126, United States; DOB 19 Dec 1919; Citizen Colombia; Cedula No. 812202 (Colombia); Passport AF547128 (Colombia); (INDIVIDUAL) [SDNT]

2. SAIEH MUVDI , Moises Abdal, c/o ALMACAES S.A., Bogota, Colombia; c/o ALM INVESTMENT FLORIDA, INC., Miami, FL, United States; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o C.W. SALMAN PARTNERS, Miami, FL, United States; c/o ELIZABETH OVERSEAS INC., Panama City, Panama; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o JAMCE INVESTMENTS LTD, Grand Cayman, Cayman Islands; c/o KAREN OVERSEAS, INC., Panama City, Panama; c/o KAREN OVERSEAS FLORIDA, INC., Miami, FL, United States; c/o KATTUS CORPORATION, Barbados; c/o KATTUS II CORPORATION, Panama City, Panama; c/o MLA INVESTMENTS, INC., Virgin Islands, British; c/o MOISES SAIEH Y CIA. S.C.A., Barranquilla, Colombia; c/o RAMAL S.A., Bogota, Colombia; c/o RIXFORD INVESTMENT CORPORATION, Panama City, Panama; c/o SALMAN CORAL WAY PARTNERS, Miami, FL, United States; c/o SUNSET & 97TH HOLDINGS, LLC., Miami, FL, United States; c/o URBANIZADORA ALTAVISTA INTERNACIONAL S.A., Barranquilla, Colombia; c/o VILLAROSA INVESTMENTS CORPORATION, Panama City, Panama; c/o VILLAROSA INVESTMENTS FLORIDA, INC., Miami, FL, United States; Carrera 56 # 79-40, Apt 7, Barranquilla, Colombia; 19667 NE 36 Court A 12-G, North Miami Beach, FL, United States; 780 NW Le Jeune Rd, Ste 516, Miami, FL 33126, United States; 780 NW 42nd Avenue, Miami, FL 33126, United States; 1405 SW 107th Ave., Ste 301B, Miami, FL, United States; 19667 Turnberry Way, Unit 12G, Miami, FL 33180, United States; 20301 W Country Club Drive, Apt 824, Aventura, FL 33180, United States; DOB 06 Jun 1945; POB Pamplona, Norte de Santander; Citizen Colombia; Cedula No. 7427466 (Colombia)(INDIVIDUAL) [SDNT]

3. SAIEH JAMIS , Carlos Ernesto, c/o ALMACAES S.A., Bogota, Colombia; c/o ALM INVESTMENT FLORIDA, INC., Miami, FL, United States; c/o BLACKMORE INVESTMENTS A.V.V., Oranjestad, Aruba; c/o BRUNELLO LTD., Grand Cayman, Cayman Islands; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o C.W. SALMAN PARTNERS, Miami, FL, United States; c/o ELIZABETH OVERSEAS INC., Panama City, Panama; c/o FINANZAS DEL NORTE LUIS SAIEH Y CIA. S.C.A., Barranquilla, Colombia; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MARC LLC, Miami, FL, United States; c/o MLA INVESTMENTS, INC., Virgin Islands, British; c/o MOISES SAIEH Y CIA. S.C.A., Barranquilla, Colombia; c/o RAMAL S.A., Bogota, Colombia; c/o RIXFORD INVESTMENT CORPORATION, Panama City, Panama; c/o SALMAN CORAL WAY PARTNERS, Miami, FL, United States; c/o URBANIZADORA ALTAVISTA INTERNACIONAL S.A., Barranquilla, Colombia; c/o VILLAROSA INVESTMENTS FLORIDA, INC., Miami, FL, United States; 780 NW Le Jeune Rd, Ste 516, Miami, FL 33126, United States; 780 NW 42nd Avenue, Miami, FL 33126, United States; Carrera 56 # 79-102 P-10, Barranquilla, Colombia; Nine Island Avenue, Unit 1411, Miami Beach, FL, United States; DOB 24 Feb 1964; POB Barranquilla, Colombia; Citizen Colombia; Nationality Colombia; Cedula No. 8739066 (Colombia); Passport AH006864 (Colombia) (INDIVIDUAL) [SDNT]

Dated: March 13, 2007.
Adam J. Szubin,
Director, Office of Foreign Assets Control.

[FR Doc. E7-8299 Filed 5-2-07; 8:45 am]

BILLING CODE 4811-42-P